DEPARTMENT OF JUSTICE

Antitrust Division

Notice Pursuant to the National Cooperative Research and Production Act of 1993—ANSI Accredited Standards Committee “C8”

Notice is hereby given that, on September 17, 2004, pursuant to section 6(a) of the National Cooperative Research and Production Act of 1993, 15 U.S.C. 4301 et seq. (“the Act”), ANSI Accredited Standards Committee “C8” (“C8 Committee”), by its Secretariat, National Electrical Manufacturers Association (“NEMA”), has filed written notification simultaneously with the Attorney General and the Federal Trade Commission disclosing (1) the name and principal place of business of the standards development organization and (2) the nature and scope of its standards development activities. The notification were filed for the purpose of invoking the Act's provisions limiting the recovery of antitrust plaintiffs to actual damages under specified circumstances.

Pursuant to section 6(b) of the Act, the name and principal place of business of the standards development organization is: ANSI Accredited Standards Committee “C8”, Rosslyn, VA. The nature and scope of the C8 Committee's standards development activities are: To develop and maintain American National Standards (“ANSI”) related to wire and cable products.

Currently, C8 Committee maintains 38 standards relating to high performance wire, power cables, and communications cable and wire. The standards developed by C8 Committee are published by NEMA.

Dorothy B. Fountain,
Deputy Director of Operations, Antitrust Division.

[FR Doc. 04-26621 Filed 12-2-04; 8:45 am]

BILLING CODE 4410-11-M